DEPARTMENT OF COMMERCE

Foreign-Trade Zones Board

[S-235-2025]

Foreign-Trade Zone 222; Application for Subzone; Ryder Integrated Logistics, Inc.; Hope Hull, Alabama

An application has been submitted to the Foreign-Trade Zones (FTZ) Board by the Montgomery Area Chamber of Commerce, grantee of FTZ 222, requesting subzone status for the facility of Ryder Integrated Logistics, Inc., located in Hope Hull, Alabama. The application was submitted pursuant to the provisions of the Foreign-Trade Zones Act, as amended (19 U.S.C. 81a-81u), and the regulations of the FTZ Board (15 CFR part 400). It was formally docketed on July 21, 2025.

The proposed subzone (171.02 acres) is located at 7300 Celebration Way, Hope Hull, Alabama. No authorization for production activity has been requested at this time. The proposed subzone would be subject to the existing activation limit of FTZ 222.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is September 2, 2025. Rebuttal comments in response to material submitted during the foregoing period may be submitted through September 17, 2025.

A copy of the application will be available for public inspection in the “Online FTZ Information Section” section of the FTZ Board's website, which is accessible via www.trade.gov/ftz.

For further information, contact Juanita Chen at juanita.chen@trade.gov.

Dated: July 21, 2025.
Elizabeth Whiteman,
Executive Secretary.

[FR Doc. 2025-13948 Filed 7-23-25; 8:45 a.m.]

BILLING CODE 3510-DS-P